DEPARTMENT OF COMMERCE

National Oceanic and Atmospheric Administration

RIN 0648-XA599

Marine Mammals; File No. 16094

AGENCY: National Marine Fisheries Service (NMFS), National Oceanic and Atmospheric Administration (NOAA), Commerce.

ACTION: Notice; issuance of permit.

SUMMARY: Notice is hereby given that a permit has been issued to the Alaska Department of Fish and Game, Juneau, AK to conduct research on marine mammals.

ADDRESSES: The permit and related documents are available for review upon written request or by appointment in the following offices:

Permits, Conservation and Education Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Tammy Adams or Joselyd Garcia-Reyes, (301) 427-8401.

SUPPLEMENTARY INFORMATION: On July 29, 2011, notice was published in the Federal Register (76 FR 45514) that a request for a permit to conduct research on harbor seals (Phoca vitulina) throughout their range in Alaska, including Southeast Alaska, Gulf of Alaska, and Bering Sea, had been submitted by the above-named applicant. The requested permit has been issued under the authority of the Marine Mammal Protection Act of 1972, as amended (16 U.S.C. 1361 et seq.), and the regulations governing the taking and importing of marine mammals (50 CFR part 216).

The permitted takes include aerial surveys for population census and radio tracking; ground surveys for photo-identification, counts and behavioral observations; vessel approaches of animals equipped with telemetry equipment; vessel surveys for radio tracking; and capture by entanglement in a net in the water or by hoop net or dip net on land. Captured animals will: be restrained (chemical or physical); be weighed and measured; have biological samples collected (blood, milk (lactating females), blubber, skin, muscle, hair, mucus membrane swabs, stomach lavage, tooth and vibrissae); be administered deuterated water; have measurement of blubber via ultrasound; be marked with flipper identification tags; and have internal (PIT tags) or external scientific instruments attached. Tissue samples will be collected from subsistence harvested animals and other mortalities and some samples will be exported to Canada for analysis. The permit is valid through December 31, 2016.

In compliance with the National Environmental Policy Act of 1969 (42 U.S.C. 4321 et seq.), a final determination has been made that the activity proposed is categorically excluded from the requirement to prepare an environmental assessment or environmental impact statement.

Dated: September 28, 2011.
P. Michael Payne,
Chief, Permits, Conservation and Education Division, Office of Protected Resources, National Marine Fisheries Service.

[FR Doc. 2011-25557 Filed 10-3-11; 8:45 am]

BILLING CODE 3510-22-P